SMALL BUSINESS ADMINISTRATION

[Declaration of Disaster #3467]

State of Ohio; Amendment #2

In accordance with a notice received from the Federal Emergency Management Agency, dated December 20, 2002, the above numbered declaration is hereby amended to include Ashland, Auglaize, Coshocton, Franklin, Henry, Huron, Lorain, Medina, Sandusky, Union, Wayne, and Wood Counties in the State of Ohio as a disaster area due to damages caused by severe storms and tornadoes occurring on November 10, 2002.

In addition, applications for economic injury loans from small businesses located in Champaign, Darke, Delaware, Erie, Fairfield, Fulton, Guernsey, Holmes, Knox, Licking, Logan, Madison, Marion, Muskingum, Pickaway, Richland, Shelby, Tuscarawas, and Williams Counties in the State of Ohio may be filed until the specified date at the previously designated location. All other counties contiguous to the above named primary counties have been previously declared.

All other information remains the same, i.e., the deadline for filing applications for physical damage is January 17, 2003, and for economic injury the deadline is August 18, 2003.

(Catalog of Federal Domestic Assistance Program Nos. 59002 and 59008)

Dated: December 23, 2002.
Herbert L. Mitchell,
Associate Administrator for Disaster Assistance.

[FR Doc. 02-32932 Filed 12-27-02; 8:45 am]

BILLING CODE 8025-01-P